DEPARTMENT OF THE INTERIOR

Bureau of Land Management

[NV-040-1430-EQ; N-52775]

Termination of Private Airstrip Lease; NV

AGENCY: Bureau of Land Management, Interior.

ACTION: Notice.

SUMMARY: This action terminates Private Airstrip Lease N-52775 in its entirety. The land will be opened to the public land laws generally, including the mining and mineral leasing laws.

EFFECTIVE DATE: November 26, 2001.

ADDRESSES: Written comments should be addressed to: Bureau of Land Management, Gene A. Kolkman, Field Manager, HC 33, Box 33500, Ely, NV 89301-9408.

FOR FURTHER INFORMATION CONTACT: Doris A. Metcalf, Realty Specialist, at the above address or telephone (775) 289-1852.

SUPPLEMENTARY INFORMATION: Pursuant to the authority delegated by appendix 5 of Bureau of Land Management Manual Supplement 1203 dated November 25, 1998, Private Airstrip Lease N-52775 is hereby terminated in its entirety:

Mount Diablo Meridian, Nevada

T. 24 N., R. 56 E.,

Section 23, S½, SE¼;

Section 26, NW¼NE¼, E½NW¼, SW¼NW¼, N½SW¼.

The area described contains 38.863 acres in White Pine County.

The classification made pursuant to Section 302 of the Federal Land Policy and Management Act of October 21, 1976, as amended, segregated the public land from all other forms of appropriation under the public land laws, including location under the United States mining laws and the mineral leasing laws. The Airstrip is no longer required and has been closed in accordance with BLM and FAA requirements.

Dated: September 26, 2001.
Gene A. Kolkman,
Field Manager.

[FR Doc. 01-26984 Filed 10-25-01; 8:45 am]

BILLING CODE 4310-HC-P